ENVIRONMENTAL PROTECTION AGENCY

[EPA-HQ-RCRA-2012-0426; FRL-9909-36-OSWER]

RIN 2050-AG72

Hazardous Waste Management and the Retail Sector: Providing and Seeking Information on Practices To Enhance Effectiveness to the RCRA Program

AGENCY: Environmental Protection Agency (EPA).

ACTION: Notice; Extension of comment period.

SUMMARY: The Environmental Protection Agency (EPA or the Agency) is extending the deadline for submitting written comments on the Notice of Data Availability (NODA) published on February 14, 2014. In response to stakeholder requests, EPA is extending the comment period to May 30, 2014.

DATES: Comments on the issued NODA must be received on or before May 30, 2014.

ADDRESSES: Submit your comments on the NODA, identified by Docket ID No. EPA-HQ-RCRA-2012-0426, by one of the following methods:

• www.regulations.gov: Follow the online instructions for submitting comments.

• Email: rcra-docket@epa.gov. Attention Docket ID No. EPA-HQ-RCRA-2012-0426.

• Mail: RCRA Docket, Environmental Protection Agency, Mailcode: 28221T, 1200 Pennsylvania Ave. NW., Washington, DC 20460. Attention Docket ID No. EPA-HQ-RCRA-2012-0426. Please include a total of 2 copies.

• Hand Delivery: Deliver two copies of your comments to EPA Docket Center, EPA/DC, WJC West Building, Room 3334, 1301 Constitution Ave. NW., Washington, DC 20460. Such deliveries are only accepted during the Docket's normal hours of operation, and special arrangements should be made for deliveries of boxed information.

Instructions: Direct your comments to Docket ID No. EPA-HQ-RCRA-2012-0426. EPA's policy is that all comments received will be included in the public docket without change and may be made available on-line at www.regulations.gov, including any personal information provided, unless the comment includes information claimed to be Confidential Business Information (CBI), or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/dockets/.

For additional instructions on submitting comments, go to the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the RCRA Docket, EPA/DC, EPA West, Room 3334, 1301 Constitution Ave. NW., Washington, DC. The Public Reading Room is open from 8:30 a.m. to 4:30 p.m., Monday through Friday, excluding legal holidays. The telephone number for the Public Reading Room is (202) 566-1744 and the telephone number for the RCRA Docket is (202) 566-0270.

FOR FURTHER INFORMATION CONTACT: For further information regarding specific aspects of this notice, contact Jim O'Leary, Materials Recovery and Waste Management Division, Office of Resource Conservation and Recovery, (5304P), U.S. Environmental Protection Agency, 1200 Pennsylvania Avenue NW., Washington, DC 20460; telephone (703) 308-8827; fax number: 703-308-0514; email address oleary.jim@epa.gov.

For more information on this action, please visit: http://www.epa.gov/waste/hazard/generation/retail.htm.

SUPPLEMENTARY INFORMATION:

General Information

On February 14, 2014, EPA published in the Federal Register a NODA inviting comment on information assembled by EPA, as well as soliciting additional information regarding the hazardous waste management practices of establishments in the retail sector (e.g., stores). This NODA also invited comment on specific issues and suggested questions that the retail industry had raised about challenges they face in complying with the Resource Conservation and Recovery Act (RCRA) hazardous waste policies, guidances and regulations.

Today's action extends the deadline for submitting written comments on the NODA to May 30, 2014. This extension provides an additional 45 days for the public to provide written comments. EPA received several requests for an extension of the comment period and this notice is the Agency's response to those persons who requested an extension of the comment period.

Dated: April 3, 2014.
Mathy Stanislaus,
Assistant Administrator, Office of Solid Waste and Emergency Response.

[FR Doc. 2014-08043 Filed 4-9-14; 8:45 am]

BILLING CODE 6560-50-P